DEPARTMENT OF TRANSPORTATION

Office of the Secretary

Aviation Proceedings, Agreements Filed the Week Ending March 2, 2007

The following Agreements were filed with the Department of Transportation under the Sections 412 and 414 of the Federal Aviation Act, as amended (49 U.S.C. 1383 and 1384) and procedures governing proceedings to enforce these provisions. Answers may be filed within 21 days after the filing of the application.

Docket Number: OST-2007-27396.

Date Filed: February 26, 2007.

Parties: Members of the International Air Transport Association.

Subject:

TC23 Middle East—TC3 Resolutions. (Memo 0305)

Minutes: TC32 Middle East—TC3 Resolutions (Memo 0317)

Intended effective date: 1 April 2007.

Docket Number: OST-2007-27397.

Date Filed: February 26, 2007.

Parties: Members of the International Air Transport Association.

Subject:

TC23 Africa—TC3.

Areawide Resolutions (Memo 0314)

Minutes: TC23 Middle East, Africa—TC3 Passenger Tariff Coordinating Conference (Memo 0321)

Intended effective date: 1 April 2007.

Docket Number: OST-2007-27424.

Date Filed: February 27, 2007.

Parties: Members of the International Air Transport Association.

Subject:

TC23 Middle East—South Asian Subcontinent.

Resolutions and Fares Tables (Memo 0309)

Minutes: TC32 Middle East—TC3 Resolutions (Memo 0317)

Intended effective date: 1 April 2007.

Docket Number: OST-2007-27425.

Date Filed: February 27, 2007.

Parties: Members of the International Air Transport Association.

Subject:

TC23 Middle East—South West Pacific.

Resolutions and Fares Tables (Memo 0304)

Minutes: TC32 Middle East—TC3 Resolutions (Memo 0317)

Intended effective date: 1 April 2007.

Docket Number: OST-2007-27426.

Date Filed: February 27, 2007.

Parties: Members of the International Air Transport Association.

Subject:

TC23 Middle East—South West Pacific.

Resolutions and Fares Tables (Memo 0304)

Minutes: TC32 Middle East—TC3 Resolutions (Memo 0317)

Intended effective date: 1 April 2007.

Docket Number: OST-2007-27450.

Date Filed: March 1, 2007.

Parties: Members of the International Air Transport Association.

Subject:

Resolution 015h.

USA Add-ons between USA and UK (Memo 0202)

Intended effective date: 1 April 2007.

Renee V. Wright,
Program Manager, Docket Operations, Federal Register Liaison.

[FR Doc. E7-4636 Filed 3-13-07; 8:45 am]

BILLING CODE 4910-9X-P